DEPARTMENT OF ENERGY

Federal Energy Regulatory Commission

[Project No. 3586-004]

Hoosier Hydroelectric, Inc. Rocky River Hydro, LLC; Notice of Transfer of Exemption

1. By letter filed May 16, 2014, Rocky River Hydro, LLC informed the Commission that the exemption from licensing for the Rocky River Hydroelectric Project, FERC No. 3586, originally issued December 16, 1981,¹ has been transferred to Rocky River Hydro, LLC. The project is located on the Rocky River in Chatham County, North Carolina. The transfer of an exemption does not require Commission approval.

¹ 17 FERC ¶ 62,442, Order Granting Exemption from Licensing of a Small Hydroelectric Project of 5 Megawatts or Less.

2. Rocky River Hydro, LLC, located at 3409 Birk Bluff Court, Cary, NC 27518 is now the exemptee of the Rocky River Hydroelectric Project, FERC No. 3586.

Dated: Issued June 24, 2014.
Kimberly D. Bose,
Secretary.

[FR Doc. 2014-15220 Filed 6-27-14; 8:45 am]

BILLING CODE 6717-01-P